CONSUMER FINANCIAL PROTECTION BUREAU

[Docket No. CFPB-2023-0036]

Agency Information Collection Activities: Comment Request

AGENCY: Consumer Financial Protection Bureau.

ACTION: Notice and request for comment.

SUMMARY: In accordance with the Paperwork Reduction Act of 1995 (PRA), the Consumer Financial Protection Bureau (Bureau or CFPB) requests the extension of the Office of Management and Budget's (OMB's) approval for an existing information collection titled “Payday, Vehicle Title, and Certain High-Cost Installment Loans,” approved under OMB Control Number 3170-0071.

DATES: Written comments are encouraged and must be received on or before August 22, 2023 to be assured of consideration.

ADDRESSES: You may submit comments, identified by the title of the information collection, OMB Control Number (see below), and docket number (see above), by any of the following methods:

• Federal eRulemaking Portal: http://www.regulations.gov. Follow the instructions for submitting comments.

• Email: PRA_Comments@cfpb.gov. Include Docket No. CFPB-2023-0036 in the subject line of the email.

• Mail/Hand Delivery/Courier: Comment Intake, Consumer Financial Protection Bureau (Attention: PRA Office), 1700 G Street NW, Washington, DC 20552. Because paper mail in the Washington, DC area and at the Bureau is subject to delay, commenters are encouraged to submit comments electronically.

Please note that comments submitted after the comment period will not be accepted. In general, all comments received will become public records, including any personal information provided. Sensitive personal information, such as account numbers or Social Security numbers, should not be included.

FOR FURTHER INFORMATION CONTACT: Requests for additional information should be directed to Anthony May, PRA Officer, at (202) 435-7278, or email: CFPB_PRA@cfpb.gov. If you require this document in an alternative electronic format, please contact CFPB_Accessibility@cfpb.gov. Please do not submit comments to these email boxes.

SUPPLEMENTARY INFORMATION:

Title of Collection: Payday, Vehicle Title, and Certain High-Cost Installment Loans.

OMB Control Number: 3170-0071.

Type of Review: Extension without change of a currently approved collection.

Affected Public: State, local, and tribal governments.

Estimated Number of Respondents: 9,887.

Estimated Total Annual Burden Hours: 3,189,587.

Abstract: 12 Code of Federal Regulations (CFR) part 1041 applies to non-depository institutions and loan brokers engaged in consumer lending, credit intermediation activities, or activities related to credit intermediation. Additionally, banks and credit unions that make loans are subject to the regulation. The purpose of this regulation is to identify certain unfair and abusive acts or practices in connection with certain consumer credit transactions, to set forth requirements for preventing such acts or practices, and to provide certain partial conditional exemptions from aspects of this rule. This regulation also contains requirements to ensure that the features of those consumer credit transactions are fully, accurately, and effectively disclosed to consumers.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB's approval. All comments will become a matter of public record.

Anthony May,
Paperwork Reduction Act Officer, Consumer Financial Protection Bureau.

[FR Doc. 2023-13326 Filed 6-22-23; 8:45 am]

BILLING CODE 4810-AM-P